NUCLEAR REGULATORY COMMISSION

[Docket No. 50-298; NRC-2014-0180]

Nebraska Public Power District; Cooper Nuclear Station

AGENCY: Nuclear Regulatory Commission.

ACTION: License amendment application; withdrawal by applicant.

SUMMARY: The U.S. Nuclear Regulatory Commission (NRC) has granted the request of Nebraska Public Power District to withdraw its application dated June 2, 2014, for a proposed amendment to Facility Operating License No. DPR-46. The proposed amendment would have revised the Cooper Nuclear Station Technical Specifications (TS) to update Figure 4.1-1, “Site and Exclusion Area Boundaries and Low Population Zone,” to reflect the current site layout.

ADDRESSES: Please refer to Docket ID NRC-2014-0180 when contacting the NRC about the availability of information regarding this document. You may obtain publicly-available information related to this document using any of the following methods:

• Federal Rulemaking Web site: Go to http://www.regulations.gov and search for Docket ID NRC-2014-0180. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Siva P. Lingam, Office of Nuclear Reactor Regulation, U.S. Nuclear Regulatory Commission, Washington, DC 20555-0001; telephone: 301-415-1564, email: Siva.Lingam@nrc.gov.

SUPPLEMENTARY INFORMATION: The NRC has granted the request of Nebraska Public Power District (the licensee) to withdraw its June 2, 2014, application (Agencywide Documents Access and Management System (ADAMS) Accession No. ML14157A006) for a proposed amendment to Facility Operating License No. DPR-46 for the Cooper Nuclear Station, located in Nemaha County, Nebraska.

The proposed amendment would have revised the Cooper Nuclear Station TS to update Figure 4.1-1, “Site and Exclusion Area Boundaries and Low Population Zone,” to reflect the current site layout.

The Commission had previously issued a Notice of Consideration of Issuance of Amendment published in the Federal Register on August 5, 2014 (79 FR 45478). However, by letter dated February 3, 2015 (ADAMS) Accession No. ML15041A664), the licensee withdrew the proposed change.

Dated at Rockville, Maryland, this 11th day of February 2015.
For the Nuclear Regulatory Commission.
Siva P. Lingam,
Project Manager, Plant Licensing Branch IV-1, Division of Operating Reactor Licensing, Office of Nuclear Reactor Regulation.

[FR Doc. 2015-03623 Filed 2-20-15; 8:45 am]

BILLING CODE 7590-01-P